DEPARTMENT OF LABOR

Employment and Training Administration

[TA-W-57,399]

Electrolux Home Products, Referigeration Division, Including On-Site Leased Workers Of Aerotek, JBL Resources, Casari, Inc., K Force Incorporated, Manpower, Select Resources, Securitas Services and Canteen Services, Greenville, Michigan; Amended Certification Regarding Eligibility to Apply for Worker Adjustment Assistance and Alternative Trade Adjustment Assistance

In accordance with Section 223 of the Trade Act of 1974 (19 U.S.C. 2273), and Section 246 of the Trade Act of 1974, as amended, the Department of Labor issued a Certification of Eligibility to Apply for Worker Adjustment Assistance and Alternative Trade Adjustment Assistance on July 15, 2005, applicable to workers of Electrolux Home Products, Refrigeration Division, Greenville, Michigan. The notice was published in the Federal Register on August 26, 2005 (70 FR 50410).

At the request of a company official of Electrolux, the Department reviewed the certification for workers of the subject firm. The workers produce refrigerators.

The review shows that the subject firm leased workers on-site from Aerotek, JBL Resources, Casari, Inc., K Force Incorporated, Manpower, Select Resources, Securitas Services and Canteen Services. In order to include all workers affected by a shift of production to Mexico, the Department is amending the current certification to include workers of the above named firms employed at the Greenville, Michigan site of Electrolux Home Products, Refrigeration Division.

The amended notice applicable to TA-W-57,409 is hereby issued as follows:

“All workers of Electrolux Home Products, Refrigeration Division, Greenville, Michigan, including on-site leased workers of Aerotek, JBL Resources, Casari, Inc., K Force Incorporated, Manpower, Select Resources, Securitas Services and Canteen Services who became totally or partially separated from employment on or after June 17, 2004 through July 15, 2007 are eligible to apply for adjustment assistance under Section 223 of the Trade Act of 1974, and are also eligible to apply for alternative trade adjustment assistance under Section 246 of the Trade Act of 1974.”

Signed in Washington, DC, this 15th day of September, 2005.
Richard Church,
Certifying Officer, Division of Trade Adjustment Assistance.

[FR Doc. E5-5287 Filed 9-27-05; 8:45 am]

BILLING CODE 4510-30-P